DEPARTMENT OF ENERGY

Federal Energy Regulatory Commission

Combined Notice of Filings #2

September 20, 2005.

Take notice that the Commission received the following electric rate filings:

Docket Numbers: ER05-1175-002.

Applicants: NorthWestern Corporation.

Description: NorthWestern Corp submits a revised, unexecuted amended Firm Point-to-Point Transmission Service Agreement 18-SD, in compliance with FERC's 9/1/05 Order.

Filed Date: 09/16/2005.

Accession Number: 20050919-0121.

Comment Date: 5 p.m. eastern time on Friday, October 07, 2005.

Docket Numbers: ER05-1229-001.

Applicants: Old Dominion Electric Cooperative.

Description: Old Dominion Electric Cooperative's files amended application for providing cost-based Reactive Power & Voltage Control from Generation Sources Service.

Filed Date: 09/14/2005.

Accession Number: 20050919-0060.

Comment Date: 5 p.m. eastern time on Wednesday, October 05, 2005.

Docket Numbers: ER05-1255-001.

Applicants: Horizon Power, Inc.

Description: Horizon Power, Inc submits tariff sheets amending its market behavior tariff provisions in compliance with FERC's 9/14/05 Letter Order.

Filed Date: 09/15/2005.

Accession Number: 20050919-0061.

Comment Date: 5 p.m. eastern time on Thursday, October 06, 2005.

Docket Numbers: ER05-1273-001.

Applicants: Mid-Continent Area Power Pool.

Description: Mid-Continent Area Power Pool requests that FERC grant an effective date of 9/28/05, for its revisions to Schedule 1 under MAPP Schedule F.

Filed Date: 09/15/2005.

Accession Number: 20050919-0115.

Comment Date: 5 p.m. eastern time on Thursday, October 06, 2005.

Docket Numbers: ER05-1347-001.

Applicants: Midwest Independent Transmission System Operator, Inc.

Description: Midwest Independent Transmission System Operator, Inc's proposed revisions to Attachment X of the Open Access Transmission & Energy Markets Tariff, FERC Electric Tariff, Third Revised Volume No. 1.

Filed Date: 09/14/2005.

Accession Number: 20050920-0056.

Comment Date: 5 p.m. eastern time on Wednesday, October 05, 2005.

Docket Numbers: ER05-1473-000.

Applicants: PJM Interconnection L.L.C.

Description: PJM Interconnection, LLC submits an executed Interconnection Service Agreement with Benson Wind Farm LLC and Commonwealth Edison Co., pursuant to section 205 of the Federal Power Act.

Filed Date: 09/12/2005.

Accession Number: 20050913-0134.

Comment Date: 5 p.m. eastern time on Monday, October 03, 2005.

Docket Numbers: ER05-1475-001-002.

Applicants: Midwest Independent Transmission. System Operator, Inc.

Description: Midwest Independent Transmission Operator Inc submits proposed revisions to Attachment X (Standard Large Generator Interconnection Procedures) of its Open Access Transmission & Energy Markets Tariff. September 16 proposed revision to Attachment X to correct errors to September 12 filing.

Filed Date: 09/15/2005.

Accession Number: 20050919-0116.

Comment Date: 5 p.m. eastern time on Thursday, October 06, 2005.

Docket Numbers: ER05-1481-000.

Applicants: American Electric Power Service Corporation.

Description: American Electric Power Service Corp submits Notices of Cancellation of a Network Operating Agreement & a Service Agreement for Network Integration Transmission Service with CSW Operating Companies et al.

Filed Date: 09/14/2005.

Accession Number: 20050919-0062.

Comment Date: 5 p.m. eastern time on Wednesday, October 05, 2005.

Docket Numbers: ER05-1482-000.

Applicants: Electric Energy Inc.

Description: Electric Energy, Inc submits a market-based tariff for the sale of electric capacity, energy, & firm transmission rights, and the reassignment of transmission capacity rights at negotiated rates.

Filed Date: 09/15/2005.

Accession Number: 20050919-0063.

Comment Date: 5 p.m. eastern time on Thursday, October 06, 2005.

Docket Numbers: ER05-1483-000.

Applicants: Smarr EMC.

Description: Smarr EMC advises that due to amendments to section 201(f) of the Federal Power Act, it is no longer a public utility.

Filed Date: 09/15/2005.

Accession Number: 20050916-0181.

Comment Date: 5 p.m. eastern time on Thursday, October 06, 2005.

Docket Numbers: ER05-1484-000.

Applicants: Xcel Energy Services, Inc.

Description: Xcel Energy Services Inc submits the Connection Agreements for Great River Energy's Eagle Creek, Rockville, Oakwood, Westwood # 2 and Northstar Ethanol Substations between Northern States Power Company's and Great River Energy.

Filed Date: 09/15/2005.

Accession Number: 20050916-0182.

Comment Date: 5 p.m. eastern time on Thursday, October 06, 2005.

Docket Numbers: ER05-1485-000.

Applicants: Alcoa Power Generating Inc—Yadkin Division.

Description: Alcoa Power Generating Inc submits revisions to its Open Access Transmission Tariff—Yadkin Division which owns and operates transmission facilities in the Southeastern Electric Reliability Council.

Filed Date: 09/16/2005.

Accession Number: 20050919-0099.

Comment Date: 5 p.m. eastern time on Friday, October 07, 2005.

Docket Numbers: ER05-1486-000.

Applicants: Graham County Electric Cooperative, Inc.

Description: Graham County Electric Cooperative, Inc advises that due to amendments to section 201(f) of the Federal Power Act, it is no longer a public utility.

Filed Date: 09/15/2005.

Accession Number: 20050919-0119.

Comment Date: 5 p.m. eastern time on Thursday, October 06, 2005.

Docket Numbers: ER05-1487-000.

Applicants: Fall River Rural Electric Cooperative, Inc.

Description: Fall River Rural Electric Cooperative, Inc. advises that due to amendments to section 201(f) of the Federal Power Act, it is no longer a public utility.

Filed Date: 09/16/2005.

Accession Number: 20050919-0118.

Comment Date: 5 p.m. eastern time on Friday, October 07, 2005.

Docket Numbers: ER05-1488-000.

Applicants: Pacific Gas & Electric Company.

Description: Pacific Gas & Electric Co submits an executed Letter of Agreement with the California Department of Water Resources-State Water Project.

Filed Date: 09/16/2005.

Accession Number: 20050919-0117.

Comment Date: 5 p.m. eastern time on Friday, October 07, 2005.

Docket Numbers: ER05-665-003.

Applicants: Barrick Goldstrike Mines Inc.

Description: Barrick Goldstrike Mines Inc submits Substitute Original Sheet No. 4 to FERC Electric Tariff, Original Volume No. 1 in compliance with FERC's 8/16/05 Order.

Filed Date: 09/15/2005.

Accession Number: 20050916-0176.

Comment Date: 5 p.m. eastern time on Thursday, October 06, 2005.

Docket Numbers: ER05-939-002.

Applicants: Vesta Trading LP.

Description: Vesta Trading LP submits Substitute Original Sheet No. 4 to FERC Electric Tariff, Original Volume No. 1 in compliance with FERC's 8/18/05 Order.

Filed Date: 09/13/2005.

Accession Number: 20050919-0059.

Comment Date: 5 p.m. eastern time on Tuesday, October 04, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E5-5254 Filed 9-27-05; 8:45 am]

BILLING CODE 6717-01-P